COMMITTEE FOR PURCHASE FROM PEOPLE WHO ARE BLIND OR SEVERELY DISABLED

Procurement List; Proposed Additions

AGENCY: Committee for Purchase From People Who Are Blind or Severely Disabled.

ACTION: Proposed additions to procurement list.

SUMMARY: The Committee has received proposals to add to the Procurement List services to be furnished by nonprofit agencies employing persons who are blind or have other severe disabilities.

DATES: Comments must be received on or before October 16, 2000.

ADDRESS: Committee for Purchase From People Who Are Blind or Severely Disabled, Jefferson Plaza 2, Suite 10800, 1421 Jefferson Davis Highway, Arlington, Virginia 22202-3259.

FOR FURTHER INFORMATION CONTACT: Louis R. Bartalot (703) 603-7740

SUPPLEMENTARY INFORMATION: This notice is published pursuant to 41 U.S.C. 47(a)(2) and 41 CFR 51-2.3. Its purpose is to provide interested persons an opportunity to submit comments on the possible impact of the proposed actions.

If the Committee approves the proposed additions, all entities of the Federal Government (except as otherwise indicated) will be required to procure the services listed below from nonprofit agencies employing persons who are blind or have other severe disabilities.

I certify that the following action will not have a significant impact on a substantial number of small entities. The major factors considered for this certification were:

1. The action will not result in any additional reporting, recordkeeping or other compliance requirements for small entities other than the small organizations that will furnish the services to the Government.

2. The action will result in authorizing small entities to furnish the services to the Government.

3. There are no known regulatory alternatives which would accomplish the objectives of the Javits-Wagner-O'Day Act (41 U.S.C. 46-48c) in connection with the services proposed for addition to the Procurement List. Comments on this certification are invited. Commenters should identify the statement(s) underlying the certification on which they are providing additional information.

The following services have been proposed for addition to Procurement List for production by the nonprofit agencies listed:

Janitorial/Custodial

Department of Veterans Affairs, BRECC VA Clinic, 3800 Loch Raven Boulevard, Baltimore, Maryland

NPA: Baltimore Association for Retarded Citizens, Inc., Baltimore, Maryland

U.S. Department of Commerce, National Weather Service, 2001 North West 56th Drive, Pendleton, Oregon

NPA: Horizon Project, Inc., Milton Freewater, Oregon

Janitorial/Grounds Maintenance

U.S. Army Reserve Center, 1650 Corey Boulevard, Decatur, Georgia

NPA: Bobby Dodd Industries, Inc., Atlanta, Georgia

Mailroom Operation

New Orleans Strategic Petroleum Reserve (SPR) Sites, New Orleans, Louisiana,

NPA: Goodworks, Inc., New Orleans, Louisiana

Switchboard Operation

Department of Justice, FBI Academy, Quantico, Virginia

NPA: Rappahannock Goodwill Industries, Inc., Fredericksburg, Virginia

G. John Heyer,
General Counsel.

[FR Doc. 00-23792 Filed 9-14-00; 8:45 am]

BILLING CODE 6353-01-P